DEPARTMENT OF LABOR

Employment and Training Administration

Notice on Reallotment of Workforce Investment Act (WIA) Title I Formula Allotted Funds for Dislocated Worker Activities for Program Year (PY) 2013

AGENCY: Employment and Training Administration, Labor.

ACTION: Notice.

SUMMARY: Public Law 105-220, the Workforce Investment Act (WIA), requires the Secretary of Labor (Secretary) to conduct reallotment of dislocated worker formula allotted funds based on State financial reports submitted as of the end of the prior program year (PY). This notice publishes the dislocated worker PY 2013 funds for recapture by State and the amount to be reallotted to eligible States.

DATES: This notice is effective May 14, 2014.

FOR FURTHER INFORMATION CONTACT: Ms. Amanda Ahlstrand, Administrator, U.S. Department of Labor, Office of Workforce Investment, Employment and Training Administration, Room C-4526, 200 Constitution Avenue NW., Washington, DC. Telephone (202) 693-3052 (this is not a toll-free number) or fax (202) 693-3981.

SUPPLEMENTARY INFORMATION: In the FY 2013 Appropriations Act, Congress appropriated WIA PY 2013 funds in two portions: (1) Funds available for obligation July 1, 2013 (i.e., PY 2013 “base” funds), and (2) funds available for obligation October 1, 2013 (i.e., FY 2014 “advance” funds). Together, these two portions make up the complete PY 2013 WIA allotment. TEGL 25-12 announced WIA allotments based on this appropriation and alerted states to the recapture and reallotment of funds' provisions, as required under WIA Section 132(c). This section of WIA requires the Secretary of Labor (Secretary) to conduct reallotment of excess unobligated WIA Adult, Youth, and Dislocated Worker formula funds based on state financial reports submitted at the end of the prior program year (i.e., PY 2012).

WIA regulations at 20 CFR 667.150 describe the procedures the Secretary uses for recapture and reallotment of funds. We will not recapture any PY 2013 funds for Adult and Youth programs because there are no cases where PY 2012 unobligated funds exceed the statutory requirements of 20 percent of state allotted funds. For the Dislocated Worker program, however, one state had unobligated PY 2012 funds in excess of 20 percent. Therefore, ETA will recapture a total of $56,422 from PY 2013 funding from this one state and reallot those funds to the remaining eligible states, as required by WIA Section 132(c).

ETA will issue Notices of Obligation and Deobligation for the states to reflect the recapture and reallotment of these funds. The adjustment of funds will be made to the FY 2014 advance portion of the PY 2013 allotments, which ETA issued in October 2013. The attached tables display the net changes to PY 2013 formula allotments and a description of the reallotment methodology.

Neither WIA statutory language, nor WIA regulatory language provides specific requirements by which states must distribute recaptured funds among states and local areas, so states have flexibility to determine the methodology used.

For any state subject to recapture of funds, WIA Section 132(c)(5) requires the Governor to prescribe equitable procedures for reacquiring funds from the state and local areas.

As mentioned, the recapture/reallotment will apply to the FY 2014 advance portion of the PY 2013 allotment. Therefore, for reporting purposes, states should reflect the recapture/reallotment amount (decrease or increase) in the “Total Federal Funds Authorized” line of any affected FY 2014 WIA 9130 Financial Status Reports (State Dislocated Worker Activities, Statewide Rapid Response, Local Dislocated Worker Activities) in a manner consistent with the method of distribution of these amounts to state and local areas used by the state. The state should include an explanation of the adjustment in the remarks section of the adjusted reports.

I. Attachment A

Attachment A—U.S. Department of Labor Employment and Training Administration WIA Dislocated Worker Activities PY 2013 Reallotment to States
| Excess unobligated PY 2012 funds to be recaptured in PY 2013 | Eligible states' PY 2012 * dislocated worker allotments | PY 2013 reallotment amount for eligible states | Total PY 2013 allotments | Recapture/reallotment adjustment to PY 2013 allotments | Revised total PY 2013 allotments
Alabama | 0 | 15,470,929 | 868 | 12,455,814 | 868 | 12,456,682
Alaska | 0 | 1,617,454 | 91 | 1,702,318 | 91 | 1,702,409
Arizona ** | 0 | 21,501,357 | 1,206 | 18,333,183 | 1,206 | 18,334,389
Arkansas | 0 | 7,022,636 | 394 | 6,881,074 | 394 | 6,881,468
California | 0 | 167,290,806 | 9,386 | 162,982,853 | 9,386 | 162,992,239
Colorado | 0 | 16,139,023 | 906 | 15,672,487 | 906 | 15,673,393
Connecticut | 0 | 12,426,602 | 697 | 11,913,095 | 697 | 11,913,792
Delaware | 0 | 2,364,307 | 133 | 2,136,390 | 133 | 2,136,523
District of Columbia | 56,422 | 0 | 0 | 2,733,764 | (56,422) | 2,677,342
Florida | 0 | 77,493,519 | 4,348 | 67,109,375 | 4,348 | 67,113,723
Georgia | 0 | 36,621,852 | 2,055 | 33,902,103 | 2,055 | 33,904,158
Hawaii | 0 | 2,544,269 | 143 | 2,658,487 | 143 | 2,658,630
Idaho | 0 | 4,848,932 | 272 | 4,113,487 | 272 | 4,113,759
Illinois | 0 | 45,178,269 | 2,535 | 47,415,147 | 2,535 | 47,417,682
Indiana | 0 | 19,765,678 | 1,109 | 19,210,950 | 1,109 | 19,212,059
Iowa | 0 | 5,396,616 | 303 | 4,479,610 | 303 | 4,479,913
Kansas | 0 | 6,269,506 | 352 | 5,244,331 | 352 | 5,244,683
Kentucky | 0 | 14,427,521 | 809 | 12,670,474 | 809 | 12,671,283
Louisiana | 0 | 10,053,591 | 564 | 10,343,401 | 564 | 10,343,965
Maine | 0 | 3,412,078 | 191 | 3,558,306 | 191 | 3,558,497
Maryland | 0 | 13,447,267 | 754 | 14,160,334 | 754 | 14,161,088
Massachusetts | 0 | 18,124,524 | 1,017 | 14,686,948 | 1,017 | 14,687,965
Michigan | 0 | 37,953,582 | 2,129 | 31,831,964 | 2,129 | 31,834,093
Minnesota | 0 | 12,017,269 | 674 | 9,577,081 | 674 | 9,577,755
Mississippi | 0 | 10,347,906 | 581 | 9,722,013 | 581 | 9,722,594
Missouri | 0 | 19,340,590 | 1,085 | 14,872,573 | 1,085 | 14,873,658
Montana | 0 | 2,228,587 | 125 | 1,820,084 | 125 | 1,820,209
Nebraska | 0 | 1,769,179 | 99 | 1,779,828 | 99 | 1,779,927
Nevada | 0 | 14,405,631 | 808 | 13,990,600 | 808 | 13,991,408
New Hampshire | 0 | 2,024,043 | 114 | 2,192,012 | 114 | 2,192,126
New Jersey | 0 | 30,893,743 | 1,733 | 34,280,662 | 1,733 | 34,282,395
New Mexico ** | 0 | 4,691,957 | 263 | 4,387,085 | 263 | 4,387,348
New York | 0 | 53,044,468 | 2,976 | 64,292,997 | 2,976 | 64,295,973
North Carolina | 0 | 33,777,825 | 1,895 | 36,354,385 | 1,895 | 36,356,280
North Dakota | 0 | 491,619 | 28 | 466,156 | 28 | 466,184
Ohio | 0 | 37,413,569 | 2,099 | 29,848,097 | 2,099 | 29,850,196
Oklahoma | 0 | 5,818,631 | 326 | 5,230,860 | 326 | 5,231,186
Oregon | 0 | 14,180,338 | 796 | 12,544,754 | 796 | 12,545,550
Pennsylvania | 0 | 33,631,354 | 1,887 | 35,257,512 | 1,887 | 35,259,399
Puerto Rico | 0 | 13,793,419 | 774 | 13,657,789 | 774 | 13,658,563
Rhode Island | 0 | 4,729,729 | 265 | 5,071,296 | 265 | 5,071,561
South Carolina | 0 | 17,249,177 | 968 | 15,453,121 | 968 | 15,454,089
South Dakota | 0 | 914,670 | 51 | 717,751 | 51 | 717,802
Tennessee | 0 | 21,003,845 | 1,178 | 18,116,992 | 1,178 | 18,118,170
Texas | 0 | 65,049,307 | 3,650 | 58,272,349 | 3,650 | 58,275,999
Utah ** | 0 | 6,236,709 | 350 | 4,299,449 | 350 | 4,299,799
Vermont | 0 | 1,060,432 | 59 | 864,140 | 59 | 864,199
Virginia | 0 | 16,431,137 | 922 | 15,640,645 | 922 | 15,641,567
Washington | 0 | 22,717,337 | 1,275 | 21,476,440 | 1,275 | 21,477,715
West Virginia | 0 | 4,805,853 | 270 | 3,992,664 | 270 | 3,992,934
Wisconsin | 0 | 15,287,864 | 858 | 14,349,020 | 858 | 14,349,878
Wyoming | 0 | 909,452 | 51 | 867,129 | 51 | 867,180
STATE TOTAL | $56,422 | $1,005,635,958 | $56,422 | $955,591,379 | $0 | $955,591,379
* PY 2012 allotment amounts include prior year recapture/reallotment amounts and are used to determine the reallotment amount eligible states receive of the recaptured amount.
** Includes Navajo Nation.
1/7/2014.

II. Attachment B

Attachment B—U.S. Department of Labor Employment and Training Administration WIA Dislocated Worker Activities PY 2013 Revised Allotments With Reallotment—PY/FY Split
| Total allotment: Original | Total allotment: Recapture/ reallotment | Total allotment: Revised | Available 7/1/13: Original | Available 7/1/13: Recapture/ reallotment | Available 7/1/13: Revised | Available 10/1/13: Original | Available 10/1/13: Recapture/ reallotment | Available 10/1/13: Revised
Alabama | 12,455,814 | 868 | 12,456,682 | 1,156,963 |  | 1,156,963 | 11,298,851 | 868 | 11,299,719
Alaska | 1,702,318 | 91 | 1,702,409 | 177,118 |  | 177,118 | 1,525,200 | 91 | 1,525,291
Arizona* | 18,333,183 | 1,206 | 18,334,389 | 1,751,421 |  | 1,751,421 | 16,581,762 | 1,206 | 16,582,968
Arkansas | 6,881,074 | 394 | 6,881,468 | 697,414 |  | 697,414 | 6,183,660 | 394 | 6,184,054
California | 162,982,853 | 9,386 | 162,992,239 | 16,482,232 |  | 16,482,232 | 146,500,621 | 9,386 | 146,510,007
Colorado | 15,672,487 | 906 | 15,673,393 | 1,582,932 |  | 1,582,932 | 14,089,555 | 906 | 14,090,461
Connecticut | 11,913,095 | 697 | 11,913,792 | 1,197,161 |  | 1,197,161 | 10,715,934 | 697 | 10,716,631
Delaware | 2,136,390 | 133 | 2,136,523 | 209,496 |  | 209,496 | 1,926,894 | 133 | 1,927,027
District of Columbia | 2,733,764 | (56,422) | 2,677,342 | 284,922 |  | 284,922 | 2,448,842 | (56,422) | 2,392,420
Florida | 67,109,375 | 4,348 | 67,113,723 | 6,457,526 |  | 6,457,526 | 60,651,849 | 4,348 | 60,656,197
Georgia | 33,902,103 | 2,055 | 33,904,158 | 3,358,754 |  | 3,358,754 | 30,543,349 | 2,055 | 30,545,404
Hawaii | 2,658,487 | 143 | 2,658,630 | 275,901 |  | 275,901 | 2,382,586 | 143 | 2,382,729
Idaho | 4,113,487 | 272 | 4,113,759 | 392,031 |  | 392,031 | 3,721,456 | 272 | 3,721,728
Illinois | 47,415,147 | 2,535 | 47,417,682 | 4,928,468 |  | 4,928,468 | 42,486,679 | 2,535 | 42,489,214
Indiana | 19,210,950 | 1,109 | 19,212,059 | 1,940,989 |  | 1,940,989 | 17,269,961 | 1,109 | 17,271,070
Iowa | 4,479,610 | 303 | 4,479,913 | 422,490 |  | 422,490 | 4,057,120 | 303 | 4,057,423
Kansas | 5,244,331 | 352 | 5,244,683 | 496,459 |  | 496,459 | 4,747,872 | 352 | 4,748,224
Kentucky | 12,670,474 | 809 | 12,671,283 | 1,226,982 |  | 1,226,982 | 11,443,492 | 809 | 11,444,301
Louisiana | 10,343,401 | 564 | 10,343,965 | 1,067,541 |  | 1,067,541 | 9,275,860 | 564 | 9,276,424
Maine | 3,558,306 | 191 | 3,558,497 | 369,032 |  | 369,032 | 3,189,274 | 191 | 3,189,465
Maryland | 14,160,334 | 754 | 14,161,088 | 1,473,584 |  | 1,473,584 | 12,686,750 | 754 | 12,687,504
Massachusetts | 14,686,948 | 1,017 | 14,687,965 | 1,368,705 |  | 1,368,705 | 13,318,243 | 1,017 | 13,319,260
Michigan | 31,831,964 | 2,129 | 31,834,093 | 3,017,299 |  | 3,017,299 | 28,814,665 | 2,129 | 28,816,794
Minnesota | 9,577,081 | 674 | 9,577,755 | 884,911 |  | 884,911 | 8,692,170 | 674 | 8,692,844
Mississippi | 9,722,013 | 581 | 9,722,594 | 969,070 |  | 969,070 | 8,752,943 | 581 | 8,753,524
Missouri | 14,872,573 | 1,085 | 14,873,658 | 1,348,265 |  | 1,348,265 | 13,524,308 | 1,085 | 13,525,393
Montana | 1,820,084 | 125 | 1,820,209 | 170,284 |  | 170,284 | 1,649,800 | 125 | 1,649,925
Nebraska | 1,779,828 | 99 | 1,779,927 | 182,198 |  | 182,198 | 1,597,630 | 99 | 1,597,729
Nevada | 13,990,600 | 808 | 13,991,408 | 1,413,120 |  | 1,413,120 | 12,577,480 | 808 | 12,578,288
New Hampshire | 2,192,012 | 114 | 2,192,126 | 230,313 |  | 230,313 | 1,961,699 | 114 | 1,961,813
New Jersey | 34,280,662 | 1,733 | 34,282,395 | 3,630,874 |  | 3,630,874 | 30,649,788 | 1,733 | 30,651,521
New Mexico * | 4,387,085 | 263 | 4,387,348 | 436,439 |  | 436,439 | 3,950,646 | 263 | 3,950,909
New York | 64,292,997 | 2,976 | 64,295,973 | 6,996,846 |  | 6,996,846 | 57,296,151 | 2,976 | 57,299,127
North Carolina | 36,354,385 | 1,895 | 36,356,280 | 3,811,703 |  | 3,811,703 | 32,542,682 | 1,895 | 32,544,577
North Dakota | 466,156 | 28 | 466,184 | 46,639 |  | 46,639 | 419,517 | 28 | 419,545
Ohio | 29,848,097 | 2,099 | 29,850,196 | 2,759,456 |  | 2,759,456 | 27,088,641 | 2,099 | 27,090,740
Oklahoma | 5,230,860 | 326 | 5,231,186 | 511,808 |  | 511,808 | 4,719,052 | 326 | 4,719,378
Oregon | 12,544,754 | 796 | 12,545,550 | 1,218,785 |  | 1,218,785 | 11,325,969 | 796 | 11,326,765
Pennsylvania | 35,257,512 | 1,887 | 35,259,399 | 3,663,344 |  | 3,663,344 | 31,594,168 | 1,887 | 31,596,055
Puerto Rico | 13,657,789 | 774 | 13,658,563 | 1,389,808 |  | 1,389,808 | 12,267,981 | 774 | 12,268,755
Rhode Island | 5,071,296 | 265 | 5,071,561 | 531,035 |  | 531,035 | 4,540,261 | 265 | 4,540,526
South Carolina | 15,453,121 | 968 | 15,454,089 | 1,509,711 |  | 1,509,711 | 13,943,410 | 968 | 13,944,378
South Dakota | 717,751 | 51 | 717,802 | 65,783 |  | 65,783 | 651,968 | 51 | 652,019
Tennessee | 18,116,992 | 1,178 | 18,118,170 | 1,740,095 |  | 1,740,095 | 16,376,897 | 1,178 | 16,378,075
Texas | 58,272,349 | 3,650 | 58,275,999 | 5,692,801 |  | 5,692,801 | 52,579,548 | 3,650 | 52,583,198
Utah* | 4,299,449 | 350 | 4,299,799 | 365,082 |  | 365,082 | 3,934,367 | 350 | 3,934,717
Vermont | 864,140 | 59 | 864,199 | 80,759 |  | 80,759 | 783,381 | 59 | 783,440
Virginia | 15,640,645 | 922 | 15,641,567 | 1,567,306 |  | 1,567,306 | 14,073,339 | 922 | 14,074,261
Washington | 21,476,440 | 1,275 | 21,477,715 | 2,146,144 |  | 2,146,144 | 19,330,296 | 1,275 | 19,331,571
West Virginia | 3,992,664 | 270 | 3,992,934 | 376,719 |  | 376,719 | 3,615,945 | 270 | 3,616,215
Wisconsin | 14,349,020 | 858 | 14,349,878 | 1,429,710 |  | 1,429,710 | 12,919,310 | 858 | 12,920,168
Wyoming | 867,129 | 51 | 867,180 | 86,951 |  | 86,951 | 780,178 | 51 | 780,229
STATE TOTAL | 955,591,379 | 0 | 955,591,379 | 95,591,379 |  | 95,591,379 | 860,000,000 | 0 | 860,000,000

III. Attachment C

Dislocated Worker State Formula PY 2013 Reallotment Methodology

Reallotment Summary: This year the Employment and Training Administration (ETA) analyzed State Workforce Investment Act (WIA) Dislocated Worker 9130 financial reports from the June 30, 2013 reporting period for PY 2012, to determine if any state had unobligated funds in excess of 20 percent of their PY 2012 allotment amount. If so, ETA will recapture that amount from PY 2013 funds and reallot the recaptured funds among eligible states.

• Source Data: State WIA 9130 financial status reports

• Programs:

State Dislocated Worker

State Rapid Response

Local Dislocated Worker (includes local administration)

• Period: June 30, 2013

• Years covered: PY 2012 and FY 2013

Reallotment Calculation Process:

1. Determine each state's unobligated balance: ETA computes the state's total amount of PY 2012 state obligations (including FY 2013 funds) for the DW program. State obligations are the sum of DW statewide activities obligations, Rapid Response obligations, and 100 percent of what the state authorizes for DW local activities. To determine the unobligated balance for the DW program, ETA subtracts the total DW obligations amount from the state's total 2012 DW allotment (adjusted for recapture/reallotment and statutory formula-based rescissions, if applicable). For this year's calculation, PY 2012 allotments were adjusted for recapture/reallotment, but there was no applicable rescission. (Note: for this process, ETA adds DW allotted funds transferred to the Navajo Nation back to Arizona, New Mexico, and Utah local DW authorized amounts).

2. Excluding state administrative costs: Section 667.150 of the regulations provides that the recapture calculations exclude the reserve for state administration which is part of the DW statewide activities. States do not report data on state administrative amounts authorized and obligated on WIA 9130 financial reports. In the preliminary calculation, to determine states potentially liable for recapture, ETA estimates the DW portion of the state administrative amount authorized by calculating the five percent maximum amount for state DW administrative costs using the DW state allotment amounts (excluding any recapture/reallotment that occurred). For the DW portion of the state administrative amount obligated, ETA treats 100 percent of the estimated authorized amount as obligated, although the estimate of state administration obligations is limited by reported statewide activities obligations overall.

3. Follow-up with states potentially liable for recapture: ETA requests that those states potentially liable for recapture provide additional data on state administrative amounts which are not regularly reported on the PY 2012 and FY 2013 statewide activities reports. The additional information requested includes the amount of statewide activities funds the state authorized and obligated for state administration as of June 30, 2013. If a state provides actual state DW administrative costs, authorized and obligated, in the comments section of revised 9130 reports, this data replaces the estimates. Based on the requested additional actual data submitted by potentially liable states on revised reports, ETA reduces the DW total allotment for these states by the amount states indicate they authorized for state administrative costs. Likewise, ETA reduces the DW total obligations for these states by the portion obligated for state administration.

4. Recapture calculation: States (including those adjusted by actual state administrative data) with unobligated balances exceeding 20 percent of the combined PY 2012/FY 2013 DW allotment amount (adjusted for recapture/reallotment in PY 2012) will have their PY 2013 DW funding (from the FY 2014 portion) reduced (recaptured) by the amount of the excess.

5. Reallotment calculation: Finally, states with unobligated balances which do not exceed 20 percent (eligible states) will receive a share of the total recaptured amount (based on their share of the total PY 2012/FY 2013 DW allotments of eligible states) in their PY 2013 DW funding (the FY 2014 portion).

Portia Wu,
Assistant Secretary for the Employment and Training Administration.

[FR Doc. 2014-11045 Filed 5-13-14; 8:45 am]

BILLING CODE 4510-30-P